DEPARTMENT OF ENERGY

Federal Energy Regulatory Commission

Combined Notice of Filings #1

Take notice that the Commission received the following electric corporate filings:

Docket Numbers: EC15-58-000.

Applicants: ALLETE Clean Energy, Inc., Chanarambie Power Partners LLC.

Description: Joint Application Under section 203 of the Federal Power Act And Request for Waivers, Confidential Treatment, and Expedited Consideration of ALLETE Clean Energy, Inc. and Chanarambie Power Partners, LLC.

Filed Date: 1/14/15.

Accession Number: 20150114-5008.

Comments Due: 5 p.m. ET 2/4/15.

Take notice that the Commission received the following electric rate filings:

Docket Numbers: ER14-2707-003.

Applicants: Mammoth Plains Wind Project, LLC.

Description: Notice of Non-Material Change in Status of Mammoth Plains Wind Project, LLC.

Filed Date: 1/13/15.

Accession Number: 20150113-5182.

Comments Due: 5 p.m. ET 2/3/15.

Docket Numbers: ER14-2708-004; ER14-2709-003; ER15-30-001; ER14-2710-003; ER15-58-001.

Applicants: Seiling Wind, LLC, Seiling Wind II, LLC, Seiling Wind Interconnection Services, LLC, Palo Duro Wind Energy, LLC., Palo Duro Wind Interconnection Services, LLC.

Description: Notice of Non-Material Change in Status of Seiling Wind, LLC, et. al.

Filed Date: 1/13/15.

Accession Number: 20150113-5195.

Comments Due: 5 p.m. ET 2/3/15.

Docket Numbers: ER14-2820-003; ER14-2821-003.

Applicants: Spring Canyon Energy II LLC, Spring Canyon Energy III LLC.

Description: Notification of Change in Facts of Spring Canyon Energy II LLC, et. al.

Filed Date: 1/14/15.

Accession Number: 20150114-5085.

Comments Due: 5 p.m. ET 2/4/15.

Docket Numbers: ER15-117-001.

Applicants: ISO New England Inc.

Description: Compliance filing per 35: 30-Day Compliance Filing on ER15-117-000 and EL14-99 to be effective 10/17/2014.

Filed Date: 1/14/15.

Accession Number: 20150114-5077.

Comments Due: 5 p.m. ET 2/4/15.

Docket Numbers: ER15-846-000.

Applicants: Southern California Edison Company.

Description: Tariff Withdrawal per 35.15: Notice of Cancellation of LGIA with Granite Wind, LLC to be effective 3/16/2015.

Filed Date: 1/14/15.

Accession Number: 20150114-5001.

Comments Due: 5 p.m. ET 2/4/15.

Docket Numbers: ER15-847-000.

Applicants: Midcontinent Independent System Operator, Inc.

Description: Compliance filing per 35: 2015-01-14_CMMPA Attachment O per Settlement to be effective 1/1/2014.

Filed Date: 1/14/15.

Accession Number: 20150114-5162.

Comments Due: 5 p.m. ET 2/4/15.

Docket Numbers: ER15-848-000.

Applicants: Midcontinent Independent System Operator, Inc., Ameren Illinois Company.

Description: Section 205(d) rate filing per 35.13(a)(2)(iii): 2014-01-14_SA 2703 Ameren-ComEd Construction Agreement to be effective 1/6/2015.

Filed Date: 1/14/15.

Accession Number: 20150114-5166.

Comments Due: 5 p.m. ET 2/4/15.

Docket Numbers: ER15-849-000.

Applicants: ITC Midwest LLC.

Description: Section 205(d) rate filing per 35.13(a)(2)(iii): Filing of a Joint Use Pole Agreement to be effective 3/16/2015.

Filed Date: 1/14/15.

Accession Number: 20150114-5215.

Comments Due: 5 p.m. ET 2/4/15.

Docket Numbers: ER15-850-000.

Applicants: California Independent System Operator Corporation.

Description: Section 205(d) rate filing per 35.13(a)(2)(iii): 2015-01-14_EIM_Administrative Charge to be effective 1/15/2015.

Filed Date: 1/14/15.

Accession Number: 20150114-5227.

Comments Due: 5 p.m. ET 2/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2015.
Nathaniel J. Davis, Sr.,
Deputy Secretary.

[FR Doc. 2015-01005 Filed 1-21-15; 8:45 am]

BILLING CODE 6717-01-P